DEPARTMENT OF HOMELAND SECURITY

Coast Guard

33 CFR Part 165

[Docket No. USCG-2007-29354]

RIN 1625-AA87

Security Zone; Nawiliwili Harbor, Kauai, HI

AGENCY: Coast Guard, DHS.

ACTION: Notice of proposed rulemaking; extension of comment period.

SUMMARY: The Coast Guard is extending the comment period for its notice of proposed rulemaking published October 3, 2007, to create a security zone in the waters of Nawiliwili Harbor, Kauai, and on the land of the jetty south of Nawiliwili Park, including the jetty access road commonly known as Jetty Road. The proposed security zone is intended to enable the Coast Guard and its law enforcement partners to better protect people, vessels, and facilities in and around Nawiliwili Harbor in the face of non-compliant obstructers who have impeded, and threaten to continue impeding, the safe passage of the Hawaii Superferry in Nawiliwili Harbor. The proposed rule complements, but does not replace or supersede, existing regulations that establish a moving 100-yard security zone around large passenger vessels like the Hawaii Superferry.

DATES: Comments and related material must reach the Coast Guard on or before November 20, 2007.

SUPPLEMENTARY INFORMATION:

ADDRESSES: You may submit comments and related material, identified by Coast Guard docket number USCG-2007-29354, in any of the three methods listed below. To avoid duplication, please use only one of the following methods:

(1) Mail: Lieutenant Sean Fahey, Coast Guard District 14 (dl), PJKK Federal Building, 300 Ala Moana Blvd., Honolulu, HI 96850.

(2) Electronically: E-mail to Lieutenant Sean Fahey at Sean.C.Fahey@uscg.mil using the subject line “Comment—Kauai Security Zone.”

(3) Fax: (808) 541-2101.

All comments will be reviewed as they are received. Additionally, all comments submitted will ultimately be available for viewing on the Federal eRulemaking Portal at http://www.regulations.gov.

FOR FURTHER INFORMATION CONTACT: Lieutenant Sean Fahey, U.S. Coast Guard District 14 at (808) 541-2106.

Request for Additional Comments

On October 3, 2007, we published a notice of proposed rulemaking (NPRM) entitled “Security Zone; Nawiliwili Harbor, Kauai, Hawaii” in the Federal Register (72 FR 56308). The comment period for the NPRM was originally set to expire on October 24, 2007. Although we received many comments on the subject rule, a few people wishing to submit comments expressed difficulty using the Federal eRulemaking Portal, one of the four methods available to submit comments on the NPRM. Recently, the Coast Guard migrated its online rulemaking docket from the Docket Management System (DMS) to the Federal Docket Management System (FMS) (72 FR 54315, Sept. 24, 2007), and this migration was accompanied by transition difficulties and delays in comments being posted on FDMS. So we will continue to accept comments on the propose rule until November 20, 2007. Comments may be submitted in one of the three methods listed in the ADDRESSES section of this rule. Based on the comments we receive, we may change the rule.

We encourage you to participate in this rulemaking by submitting comments and related material. If you do so, please identify the docket number for this rulemaking (USCG-2007-29354), indicate the specific section of this document to which each comment applies, and give the reason for each comment. We recommend that you include your name, mailing address, and an e-mail address or other contact information in the body of your document to ensure that you can be identified as the submitter. This also allows us to contact you in the event further information is needed or if there are questions. For example, if we cannot read your submission due to technical difficulties and you cannot be contacted, your submission may not be considered. Please submit all comments and related material in an unbound format, no larger than 8½ by 11 inches, suitable for copying. If you would like to know your comments reached us, please enclose a stamped, self-addressed postcard or envelope. We will consider all comments and material received during the comment period. We may change this proposed rule in view of them.

Temporary Final Rule

Concurrent with this notice to extend the comment period, the Coast Guard is also publishing a temporary final rule for a security zone in Nawiliwili Harbor. That temporary final rule can be found elsewhere in this issue of the Federal Register. The temporary final rule is being issued on an emergency basis to ensure that there is a security zone in place after the current security zone (72 FR 50877, September 5, 2007) expires on October 31, 2007. That temporary final rule is of limited duration—it will be in effect from November 1, 2007, through November 30, 2007—and is necessary to ensure the safety and security of water-based and land-based obstructers, as well as the passengers and crew of the Superferry, should the Superferry transit through Nawiliwili Harbor.

Public Meeting

During this extended comment period, you may also submit a request for a public meeting. Based on the comments we receive, we may choose to hold a public meeting. You may submit a request for a public meeting to Lieutenant Sean Fahey at U.S. Coast Guard District 14, PJKK Federal Building, 300 Ala Moana Blvd., Honolulu, Hawaii 96850, explaining why one would be beneficial. The deadline for submitting requests is November 20, 2007.

If we determine that a public meeting would aid this rulemaking, we will hold one at a time and place announced by a later notice in the Federal Register.

Dated: October 24, 2007.
Sally Brice-O'Hara,
Rear Admiral, U.S. Coast Guard, Commander, Fourteenth Coast Guard District.

[FR Doc. 07-5412 Filed 10-26-07; 2:34 pm]

BILLING CODE 4910-15-P